FEDERAL RETIREMENT THRIFT INVESTMENT BOARD

Sunshine Act Notice

Time and Date: 9 a.m. (EDT), September 15, 2003.

Place: 4th Floor, Conference Room, 1250 H Street, NW., Washington, DC.

Status: Parts will be open to the public and parts closed to the public.

MATTERS TO BE CONSIDERED

Parts Open to the Public

9 a.m. (EDT) Convene meeting.

1. Approval of minutes of the August 18, 2003, Board meeting.

2. Thrift Savings Plan report by the Executive Director.

a. Loan procedures

b. Lifestyle funds

c. ETAC

d. Investment returns

3. Audits.

4. Approval of the FY 2004 Budget and FY 2005 Estimates.

Parts Closed to the Public

5. Personnel matters.

Contact Person for More Information: Thomas J. Trabucco, Director, Office of External Affairs, (202) 942-1640.

Dated: September 5, 2003.
Elizabeth S. Woodruff,
Secretary to the Board, Federal Retirement Thrift Investment Board.

[FR Doc. 03-23016 Filed 9-5-03; 11:47 am]

BILLING CODE 6760-01-M